INTERNATIONAL TRADE COMMISSION

[USITC SE-13-026]

Sunshine Act Meeting Notice

AGENCY HOLDING THE MEETING: United States International Trade Commission.

TIME AND DATE: November 5, 2013 at 11:00 a.m.

PLACE: Room 101, 500 E Street SW., Washington, DC 20436, Telephone: (202) 205-2000.

STATUS: Open to the public.

MATTERS TO BE CONSIDERED: 1. Agendas for future meetings: None

2. Minutes

3. Ratification List

4. Vote in Inv. Nos. 701-TA-490 and 731-TA-1204 (Final) (Hardwood Plywood from China). The Commission is currently scheduled to complete and file its determinations on or before November 25, 2013; Commissioners' opinions will be issued on November 25, 2013.

5. Outstanding action jackets: None

In accordance with Commission policy, subject matter listed above, not disposed of at the scheduled meeting, may be carried over to the agenda of the following meeting.

By order of the Commission.
Issued: October 29, 2013.
William R. Bishop,
Supervisory Hearings and Information Officer.

[FR Doc. 2013-26275 Filed 10-30-13; 11:15 am]

BILLING CODE 7020-02-P